DEPARTMENT OF HEALTH AND HUMAN SERVICES

Administration for Children and Families

Proposed Information Collection Activity; Domestic Victims of Human Trafficking Program Data (OMB #0970-0542)

AGENCY: Office on Trafficking in Persons, Administration for Children and Families, Department of Health and Human Services.

ACTION: Request for public comments.

SUMMARY: The Office on Trafficking in Persons (OTIP), Administration for Children and Families (ACF), U.S. Department of Health and Human Services (HHS), is requesting renewal with revisions of an approved information collection: Domestic Victims of Human Trafficking (DVHT) Program Data (OMB #0970-0542; expiration date 3/31/2023).

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The Trafficking Victims Protection Act of 2000 (TVPA), as amended, authorizes the Secretary of HHS to expand benefits and services to victims of severe forms of trafficking in persons in the United States (U.S.), without regard to their immigration status. The TVPA also authorizes HHS to establish and strengthen programs to assist U.S. citizens and lawful permanent residents who have experienced sex trafficking or severe forms of trafficking in persons (22 U.S.C. 7105(f)(1)). Acting under a delegation of authority from the Secretary of HHS, ACF awards cooperative agreements to organizations to establish a program to assist U.S. citizens and lawful permanent residents who have experienced human trafficking—the DVHT Program. The DVHT Program is inclusive of the following two distinct programs: the Domestic Victims of Human Trafficking Services and Outreach Program (DVHT-SO) and the Demonstration Grants to Strengthen the Response to Victims of Human Trafficking in Native Communities Program (VHT-NC). Through the DVHT Program, grant recipients provide comprehensive case management to domestic survivors of human trafficking in traditional case management and Native community settings.

OTIP proposes to continue to collect information to measure grant project performance, provide technical assistance to grant recipients, assess program outcomes, inform program evaluation, respond to congressional inquiries and mandated reports, and inform policy and program development that is responsive to the needs of victims.

The information collection captures information on participant demographics (e.g., age, gender identity, race/ethnicity), type of trafficking experienced (sex, labor, or both), types of services and benefits provided, along with aggregate information on outreach activities conducted, subrecipients enrolled, and the types of trainings provided to relevant audiences. Minor updates have been made to performance indicators under this collection, in consultation with existing grant recipients and stakeholders, to reduce respondent burden and strengthen privacy and confidentiality. Specifically, to reduce burden and strengthen client privacy and confidentiality, the following DVHT client-level indicators have been removed: Type of Intake, Date of Birth, Disability Status, Services Requested at Intake, Benefits Requested at Intake, and Trafficker Relationship to Victim.

Respondents: DVHT Program Grant Recipients and Clients of those programs, specifically DVHT-SO and VHT-NC funding recipients.

Annual Burden Estimates
Instrument | Total number of respondents | Total number of responses per respondent | Average burden hours per response | Total burden hours | Annual burden hours
Client Characteristics and Program Entry | 1700 | 1 | 0.75 | 1,275 | 425
Client Case Closure | 1700 | 1 | 0.167 | 283.9 | 94.6
Barriers to Service Delivery and Monitoring | 35 | 4 | 0.167 | 23.4 | 7.8
Client Service Use and Delivery | 1700 | 1 | 0.25 | 425 | 141.7
Victim Outreach | 35 | 4 | 0.3 | 42 | 14
Training | 35 | 4 | 0.5 | 70 | 23.3
Subrecipient Enrollment | 35 | 3 | 0.167 | 17.5 | 5.8

Estimated Total Annual Burden Hours: 712.2.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

(Authority: 22 U.S.C. 7105)

Mary B. Jones,
ACF/OPRE Certifying Officer.

[FR Doc. 2022-16066 Filed 7-26-22; 8:45 am]

BILLING CODE 4184-47-P